DEPARTMENT OF COMMERCE

National Oceanic and Atmospheric Administration

Hydrographic Services Review Panel

AGENCY: National Ocean Service, National Oceanic and Atmospheric Administration (NOAA), Department of Commerce.

ACTION: Notice of call for nominations for NOAA's Hydrographic Services Review Panel Federal Advisory Committee.

SUMMARY: The National Oceanic and Atmospheric Administration is seeking nominations for members to serve on the Hydrographic Services Review Panel.

DATES: Nominations are sought to fill five vacancies that occur on January 1, 2020. Nominations should be submitted by no later than May l, 2019. Nominations will be accepted and kept on file on an ongoing basis regardless of date submitted for use with current and future vacancies. HSRP maintains a pool of candidates and advertises once a year to fulfill the HSIA requirements on membership solicitation. Current members who may be eligible for a second term must reapply.

ADDRESSES: Nominations will be accepted by email and should be sent to: Hydroservices.panel@noaa.gov and Lynne.Mersfelder@noaa.gov. You will receive a confirmation response.

FOR FURTHER INFORMATION CONTACT: Lynne Mersfelder-Lewis, NOAA HSRP program manager, email Lynne.Mersfelder@noaa.gov or phone: 240-523-0064.

SUPPLEMENTARY INFORMATION: In accordance with the Hydrographic Service Improvements Act Amendments of 2002, Public Law 107-372, the Administrator of the National Oceanic and Atmospheric Administration (NOAA) is required to solicit nominations for membership at least once a year for the Hydrographic Services Review Panel (HSRP). The HSRP, a Federal advisory committee, advises the Administrator on matters related to the responsibilities and authorities set forth in section 303 of the Hydrographic Services Improvement Act and such other appropriate matters as the Administrator refers to the Panel for review and advice. Those responsibilities and authorities include, but are not limited to: Acquiring and disseminating hydrographic data and providing hydrographic services, as those terms are defined in the Act; promulgating standards for hydrographic data and services; ensuring comprehensive geographic coverage of hydrographic services; and testing, developing, and operating vessels, equipment, and technologies necessary to ensure safe navigation and maintain operational expertise in hydrographic data acquisition and hydrographic services.

The Act states “the voting members of the Panel shall be individuals who, by reason of knowledge, experience, or training, are especially qualified in one or more of the disciplines and fields relating to hydrographic data and hydrographic services, marine transportation, port administration, vessel pilotage, coastal and fishery management, and other disciplines as determined appropriate by the Administrator.” The NOAA Administrator seeks and encourages individuals with expertise in marine navigation and technology, port administration, marine shipping or other intermodal transportation industries, cartography and geographic information systems, geodesy, physical oceanography, coastal resource management, including coastal preparedness and emergency response, and other related fields. To apply for membership, applicants are requested to submit five items including a cover letter that responds to the five questions below. The entire package should be a maximum length of eight pages or fewer. NOAA is an equal opportunity employer.

(1) A cover letter that responds to the five questions listed below and serves as a statement of interest to serve on the panel. Please see “Short Response Questions” below.

(2) Highlight the nominee's speeific area(s) of expertise relevant to the purpose of the Panel from the list in the Federal Register Notice.

(3) A short biography of 300 to 400 words.

(4) A current resume.

(5) The nominee's full name, title, institutional affiliation, mailing address, email, phone, fax and contact information.

Short Response Questions

(l) List your area(s) of expertise, as listed above.

(2) List the geographic region(s) of the country with which you primarily associate your expertise.

(3) Describe your leadership or professional experiences which you believe will contribute to the effectiveness of this panel.

(4) Describe your familiarity and experience with NOAA NOS navigation data, products, and services.

(5) Generally describe the breadth and scope of your knowledge of stakeholders, users, or other groups who interact with NOAA and whose views and input you believe you can share with the panel.

Under 33 U.S.C. 883a, et seq., NOAA's National Ocean Service (NOS) is responsible for providing nautical charts and related information for safe navigation. NOS collects and compiles hydrographic, tidal and current. geodetic, and a variety of other data in order to fulfill this responsibility.· The HSRP provides advice on current and emerging oceanographic and marine science technologies relating to operations, research and development; and dissemination of data pertaining to:

(a) Hydrographic surveying;

(b) Shoreline surveying;

(c) Nautical charting;

(d) Water level measurements;

(e) Current measurements;

(f) Geodetic measurements;

(g) Geospatial measurements;

(h) Geomagnetic measurements; and

(i) Other oceanographic/marine related sciences.

The Panel has fifteen voting members appointed by the NOAA Administrator in accordance with 33 U.S.C. 892c. Members are selected on a standardized basis, in accordance with applicable Department of Commerce guidance. The Co-Directors of the Center for Coastal and Ocean Mapping/Joint Hydrographic Center and two other NOAA employees serve as nonvoting members of the Panel. The Director, NOAA Office of Coast Survey, serves as the Designated Federal Official (DFO).

Voting members are individuals who, by reason of knowledge, experience, or training, are especially qualified in one or more disciplines relating to hydrographic surveying, tides, currents, geodetic and geospatial measurements, marine transportation, port administration, vessel pilotage, coastal or fishery management, and other oceanographic or marine science areas as deemed appropriate by the Administrator. Full-time officers or employees of the United States may not be appointed as a voting member. Any voting member of the Panel who is an applicant for, or beneficiary of (as determined by the Administrator) any assistance und er 33 U.S.C. 892c shall disclose to the Panel that relationship, and may not vote on any other matter pertaining to that assistance.

Voting members of the Panel serve a four year term, except that vacancy appointments are for the remainder of the unexpired term of the vacancy. Members serve at the discretion of the Administrator and are subject to government ethics standards. Any individual appointed to a partial or full term may be reappointed for one additional full term. A voting member may serve until his or her successor has taken office. The Panel selects one voting member to serve as the Chair and another to serve as the Vice Chair. The Vice Chair acts as Chair in the absence or incapacity of the Chair but will not automatically become the Chair if the Chair resigns. Meetings occur at least twice a year, and at the call of the Chair or upon the request of a majority of the voting members or of the Administrator. Voting members receive compensation at a rate established by the Administrator, not to exceed the maximum daily rate payable under section 5376 of title 5, United States Code, when engaged in performing duties for the Panel. Members are reimbursed for actual and reasonable expenses incurred in performing such duties.

Past HSRP public meeting summary reports, agendas, presentations, transcripts, webinars, and other information is available online at: https://www.nauticalcharts.noaa.gov/hsrp/mcctings.htm.

Individuals Selected for Panel Membershp

Upon selection and agreement to serve on the HSRP Panel, you become a Special Government Employee (SGE) of the United States Government. 18 U.S.C. 202(a) an SGE (s) is an officer or employee of an agency who is retained, designated, appointed, or employed to perform temporary duties, with or without compensation, not to exceed 130 days during any period of 365 consecutive days, either on a fulltime or intermittent basis. After the selection process is complete, applicants selected to serve on the Panel must complete the following actions before they can be appointed as a Panel member:

(a) Security Clearance (on-line Background Security Check process and fingerprinting conducted through NOAA Workforce Management); and

(b) Confidential Financial Disclosure Report—As an SGE, you are required to file a Confidential Financial Disclosure Report to avoid involvement in a real or apparent conflict of interest. You may find the Confidential Financial Disclosure Report at the following website. http://www.usoge.gov/forms/form_450.aspx.

Dated: March 1, 2019.
Paul M. Scholz,
Chief Financial Officer/Chief Administrative Officer, National Ocean Service, National Oceanic and Atmospheric Administration.

[FR Doc. 2019-04196 Filed 3-7-19; 8:45 am]

BILLING CODE 3510-JE-P